DEPARTMENT OF HEALTH AND HUMAN SERVICES

Public Meeting of the President's Council on Bioethics on April 25-26, 2002

AGENCY: Department of Health and Human Services.

ACTION: Notice.

SUMMARY: The President's Council on Bioethics will hold its third meeting to discuss its agenda and future activities.

DATES: The meeting will take place April 25, 2002, from 8:30 am to 5:00 pm and April 26, 2002, from 8:30 am to 1 pm.

ADDRESSES: The Hilton Crystal City at National Airport, 2399 Jefferson Davis Highway, Arlington, VA 22202.

PUBLIC COMMENTS: The meeting agenda will be posted in the near future at http://bioethics.gov. Written statements may be submitted by members of the public for the Council's records. Please submit statements to Ms. Diane Gianelli (tel. 202/296-4669 or e-mail info@bioethics.gov). Persons wishing to comment in person may do so during the hour set aside for this purpose beginning at noon on Friday, April 26. Comments will be limited to no more than five minutes per speaker or organization. Please give advance notice of such statements to Ms. Gianelli at the phone number given above, and be sure to include name, affiliation, and a brief description of the topic or nature of the statement.

FOR FURTHER INFORMATION CONTACT: Diane Gianelli, 202/296-4669, or visit our website at http://bioethics.gov.

Dated: March 22, 2002.
Dean Clancy,
Executive Director, The President's Council on Bioethics.

[FR Doc. 02-7725 Filed 3-29-02; 8:45 am]

BILLING CODE 4150-05-P